DEPARTMENT OF TRANSPORTATION

Federal Motor Carrier Safety Administration

[Docket No. FMCSA-2003-15268]

Qualification of Drivers; Exemption Applications; Vision

AGENCY: Federal Motor Carrier Safety Administration (FMCSA), DOT.

ACTION: Notice of applications for exemption from the vision standard; request for comments.

SUMMARY: This notice publishes the FMCSA's receipt of applications from 36 individuals for an exemption from the vision requirement in the Federal Motor Carrier Safety Regulations. If granted, the exemptions will enable these individuals to qualify as drivers of commercial motor vehicles (CMVs) in interstate commerce without meeting the vision standard prescribed in 49 CFR 391.41(b)(10).

DATES: Comments must be received on or before July 23, 2003.

ADDRESSES: You may submit comments identified by DOT DMS Docket Number FMCSA-2003-15268 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room Pl-401 on the plaza level of the Nassif Building, 400 Seventh Street, SW., Washington, DC between 9 a.m. and 5 p.m., Monday through Friday, except Federal Holidays.

• Federal eRulemaking Portal: Go to http://www.regulations.gov. Follow the on-line instructions for submitting comments.

Instructions: All submissions must include the agency name and docket number for this notice. For detailed instructions on submitting comments and additional information on the rulemaking process, see the Public Participation heading of the Supplementary Information section of this document. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: Ms. Sandra Zywokarte, Office of Bus and Truck Standards and Operations, (202) 366-2987, FMCSA, Department of Transportation, 400 Seventh Street, SW., Washington, DC 20590-0001. Office hours are from 7:45 a.m. to 4:15 p.m., e.t., Monday through Friday, except Federal holidays.

SUPPLEMENTARY INFORMATION: Public Participation: The DMS is available 24 hours each day, 365 days each year. You can get electronic submission and retrieval help guidelines under the “help” section of the DMS Web site. If you want us to notify you that we received your comments, please include a self-addressed, stamped envelope or postcard or print the acknowledgement page that appears after submitting comments on-line.

Privacy Act: Anyone is able to search the electronic form of all comments received into any of our dockets by the name of the individual submitting the comment (or signing the comment, if submitted on behalf of an association, business, labor union, etc.). You may review the Department of Transportation's complete Privacy Act Statement in the Federal Register published on April 11, 2000 (Volume 65, Number 70; Pages 19477-78) or you may visit http://dms.dot.gov.

Background

Under 49 U.S.C. 31315 and 31136(e), the FMCSA may grant an exemption for a 2-year period if it finds “such exemption would likely achieve a level of safety that is equivalent to, or greater than, the level that would be achieved absent such exemption.” The statute also allows the agency to renew exemptions at the end of the 2-year period. The 36 individuals listed in this notice have recently requested an exemption from the vision requirement in 49 CFR 391.41(b)(10), which applies to drivers of CMVs in interstate commerce. Accordingly, the agency will evaluate the qualifications of each applicant to determine whether granting the exemption will achieve the required level of safety.

Qualifications of Applicants

1. Gene E. Adams

Mr. Adams, 64, has amblyopia in his right eye. His best-corrected visual acuity in the right eye is 20/70 and in the left, 20/20. Following an examination in 2003, his optometrist certified, “It is my professional opinion that Mr. Adams has adequate vision to operate a commercial vehicle.” Mr. Adams reported that he has driven straight trucks for 46 years, accumulating 138,000 miles, and tractor-trailer combinations for 23 years, accumulating 2.5 million miles. He holds a Class AMV CDL from Alabama. His driving record for the last 3 years shows no accidents or convictions for moving violations in a CMV.

2. Morris R. Beebe

Mr. Beebe, 36, has a damaged retina in his right eye due to injury at age 6. His visual acuity in the right eye is 20/80 and in the left, 20/20. Following an examination in 2002, his optometrist certified, “It is my belief that Morris has sufficient vision and visual field perception in both eyes to be able to operate with a CDL license.” Mr. Beebe reported that he has driven straight trucks for 4 months, accumulating 38,000 miles, and tractor-trailer combinations for 2 years 8 months, accumulating 350,000 miles. He holds a Class A CDL from Colorado. His driving record for the last 3 years shows no accidents or convictions for moving violations in a CMV.

3. William V. Beekler

Mr. Beekler, 59, had a branch artery occlusion in his right eye in 1993. His visual acuity in the right eye is hand motions and in the left, 20/20 with correction. His optometrist examined him in 2003 and certified, “In my opinion, Mr. Beekler has sufficient visual function required to operate a commercial vehicle.” Mr. Beekler submitted that he has driven straight trucks and tractor-trailer combinations for 42 years, accumulating 840,000 miles in the former and 4.2 million miles in the latter. He holds a Class A CDL from New Jersey. His driving record for the last 3 years shows no accidents or convictions for moving violations in a CMV.

4. Jerry W. Branning

Mr. Branning, 58, lost his left eye due to trauma in 1983. His visual acuity in the right eye is 20/20. Following an examination in 2003, his optometrist certified, “In my opinion Mr. Branning has sufficient vision to exercise the privileges and responsibilities of operating a commercial vehicle.” Mr. Branning reported that he has driven straight trucks for 28 years, accumulating 4.8 million miles. He holds a Class A CDL from New Mexico. His driving record for the last 3 years shows no accidents and one conviction for a moving violation—speeding—in a CMV. He exceeded the speed limit by 10 mph.

5. Dennis R. Burda

Mr. Burda, 55, has amblyopia in his right eye. His best-corrected visual acuity in the right eye is 20/400 and in the left, 20/20. Following an examination in 2003, his optometrist certified, “It is our judgment that Mr. Burda's vision is good enough to operate a commercial vehicle with no restrictions day or night.” Mr. Burda submitted that he has driven straight trucks for 37 years, accumulating 742,000 miles, and tractor-trailer combinations for 5 years, accumulating 101,000 miles. He holds a Class A CDL from California. His driving record for the last 3 years shows no accidents or convictions for moving violations in a CMV.

6. James A. Busbin, Jr.

Mr Busbin, 48, has an enlarged blind spot in his right eye resulting from an injury at age 4. His best-corrected visual acuity in the right eye is 20/50 and in the left, 20/16. Following an examination in 2003, his optometrist certified, “In my opinion, this individual has sufficient vision to perform the driving tasks required to operate a commercial vehicle.” Mr. Busbin reported that he has driven straight trucks for 3 years, accumulating 150,000 miles. He holds a Class DM driver's license from Alabama. His driving record for the last 3 years shows no accidents or convictions for moving violations in a CMV.

7. Domenic J. Carassai

Mr. Carassai, 44, has amblyopia in his right eye. His visual acuity in the right eye is 20/70 and in the left, 20/20. His ophthalmologist examined him in 2002 and stated, “In our opinion, Mr. Carassai's vision is good enough to operate a commercial vehicle.” Mr. Carassai reported that he has driven straight trucks for 15 years, accumulating 360,000 miles. He holds a Class A CDL from New Jersey. His driving record shows no accidents or convictions for moving violations in a CMV during the last 3 years.

8. Theodore W. Cozat

Mr. Cozat, 60, lost his right eye at age 10 due to a congenital birth defect. His visual acuity in the left eye is 20/20. Following an examination in 2003, his optometrist certified, “In my medical opinion he has the vision to operate a commercial vehicle safely, as he has done so, for the past 29 years with a reportedly clean driving record.” Mr. Cozat reported that he has driven tractor-trailer combinations for 9 years, accumulating 900,000 miles. He holds a Class CA CDL from Michigan. His driving record for the last 3 years shows no accidents or convictions for moving violations in a CMV.

9. Todd L. Dewey

Mr. Dewey, 35, has had optic nerve hypoplasia in his right eye for 4 years. His best-corrected visual acuity in the right eye is 20/400 and in the left, 20/30. Following an examination in 2002, his optometrist certified, “Based on the above findings, Mr. Dewey appears to have sufficient vision to perform the driving tasks associated with driving a commercial motor vehicle.” Mr. Dewey reported that he has driven straight trucks for 14 years, accumulating 345,000 miles. He holds a Class B CDL from Florida. His driving record for the last 3 years shows no accidents or convictions for moving violations in a CMV.

10. John F. Dougherty

Mr. Dougherty, 59, has amblyopia in his right eye. His best-corrected visual acuity in the right eye is 20/60 and in the left, 20/20. Following an examination in 2003, his optometrist stated, “Mr. Dougherty, due to his congenital refractive amblyopia does have reduced acuity and peripheral vision. Binocular vision quality is also reduced due to the amblyopia. These reductions are however not new for Mr. Dougherty. Given his awareness of them and his otherwise excellent visual findings, I feel he does have sufficient vision to perform the driving tasks required to operate a commercial vehicle.” Mr. Dougherty reported that he has driven straight trucks for 8 years, accumulating 356,000 miles. He holds a Class C driver's license from Pennsylvania. His driving record for the last 3 years shows no accidents or convictions for moving violations in a CMV.

11. Fred W. Duran

Mr. Duran, 49, has decreased vision in his left eye due to injury at the age of 9. His visual acuity in the right eye is 20/15 and in the left, 20/100. His ophthalmologist examined him in 2002 and stated, “I certify that in my opinion, Fred Duran has sufficient vision to perform the driving tasks required to operate a commercial vehicle.” Mr. Duran reported that he has driven straight trucks for 2 years, accumulating 25,000 miles, and tractor-trailer combinations for 26 years, accumulating 975,000 miles. He holds a Class A CDL from Mississippi. His driving record shows no accidents or convictions for moving violations in a CMV during the last 3 years.

12. Paul J. Edwards, Sr.

Mr. Edwards, 65, developed a serous detachment of the macula in his left eye in 1977. His best-corrected visual acuity in the right eye is 20/25 and in the left, counting fingers. His ophthalmologist examined him in 2002 and certified, “I believe he has sufficient vision to perform the driving tasks required to operate a commercial vehicle.” Mr. Edwards reported that he has driven straight trucks and tractor-trailer combinations for 20 years, accumulating 100,000 miles in the former and 1.8 million miles in the latter. He holds a Class A CDL from Virginia. His driving record for the last 3 years shows one accident and two convictions for moving violations in a CMV. The moving violations were “failure to obey highway sign” and exceeding the speed limit by 17 mph. The accident occurred when another driver changed lanes, striking Mr. Edward's vehicle. The other driver was charged with “improper lane change.” Mr. Edwards was not cited.

13. William R. Evridge

Mr. Evridge, 38, has optic atrophy of the left eye resulting from trauma at age 9. His best-corrected visual acuity in the right eye is 20/20 and in the left, 20/200. Following an examination in 2003, his optometrist certified, “It is my opinion that Mr. Evridge has sufficient vision to perform the driving tasks required to operate a commercial vehicle.” Mr. Evridge reported that he has driven straight trucks for 3 years, accumulating 30,000 miles, and tractor-trailer combinations for 22 years, accumulating 1.3 million miles. He holds a Class DA CDL from Kentucky. His driving record for the last 3 years shows no accidents or convictions for moving violations in a CMV.

14. Kenneth J. Fisk

Mr. Fisk, 42, has a cataract in his right eye due to injury at age 7. His best-corrected visual acuity is 20/60 in the right eye and 20/20 in the left. Following an examination in 2003, his ophthalmologist certified, “Given present medical findings in patient's 20-year history of commercial licensure without accident, I would feel the patient has sufficient vision to perform his career tasks.” Mr. Fisk reported that he has driven straight trucks for 3 years, accumulating 225,000 miles, and tractor-trailer combinations for 15 years, accumulating 1.5 million miles. He holds a Class CA CDL from Michigan. His driving record for the last 3 years shows no accidents and two convictions for moving violations—exceeding the speed limit by 10 mph and “impeding traffic”—in a CMV.

15. Leslie W. Good

Mr. Good, 49, has congenital optic nerve hypoplasia in his left eye. His best-corrected visual acuity in the right eye is counting fingers and in the left, 20/15. Following an examination in 2002, his optometrist certified, “His vision is adequate for safe operation of a commercial vehicle.” Mr. Good reported that he has driven straight trucks for 8 years, accumulating 61,000 miles, and tractor-trailer combinations for 12 years, accumulating 342,000 miles. He holds a Class A CDL from Oregon. His driving record for the last 3 years shows no accidents or convictions for moving violations in a CMV.

16. Michael E. Grens

Mr. Grens, 56, has reduced vision in his right eye due to trauma in 1979. His best-corrected visual acuity in the right eye is 20/400 and in the left, 20/15. Following an examination in 2002, his optometrist certified, “It appears that Michael Grens has sufficient vision with both eyes to perform the driving tasks required to operate a commercial vehicle.” Mr. Grens submitted that he has driven straight trucks for 25 years, accumulating 1.9 million miles, tractor-trailer combinations for 8 years, accumulating 800,000 miles, and buses for 3 years, accumulating 15,000 miles. He holds a Class A CDL from Illinois. His driving record shows no accidents or convictions for moving violations in a CMV during the last 3 years.

17. Rodney P. Hains

Mr. Hains, 42, has had macular scarring in his left eye since 1999. His best-corrected visual acuity in the right eye is 20/20 and in the left, 20/200. His ophthalmologist examined him in 2003 and certified, “It is my opinion that you have sufficient vision to safely operate a commercial vehicle.” Mr. Hains reported that he has driven tractor-trailer combinations for 15 years, accumulating 1.8 million miles. He holds a Class A CDL from North Dakota. His driving record for the last 3 years shows no accidents or convictions for moving violations in a CMV.

18. Bruce E. Hemmer

Mr. Hemmer, 42, has had a corneal scar in his left eye since birth. His best-corrected visual acuity in the right eye is 20/15 and in the left, 20/200. Following an examination in 2002, his ophthalmologist stated, “In my medical opinion, it is safe for you to drive a commercial vehicle.” Mr. Hemmer submitted that he has driven straight trucks and tractor-trailer combinations for 20 years, accumulating 1.0 million miles in the former and 1.6 million miles in the latter. He holds a Class ABCD CDL from Wisconsin. His driving record for the last 3 years shows no accidents or convictions for moving violations in a CMV.

19. Steven P. Holden

Mr. Holden, 33, lost his left eye due to trauma at age 9. His visual acuity in the right eye is 20/15. Following an examination in 2003, his optometrist certified, “I do believe he has sufficient vision to perform the driving tasks required to operate a commercial vehicle.” Mr. Holden reported that he has driven straight trucks and tractor-trailer combinations for 11 years, accumulating 165,000 miles in the former and 1.9 million miles in the latter. He holds a Class A CDL from Maryland. His driving record for the last 3 years shows no accidents or convictions for moving violations in a CMV.

20. Russell R. Inlow

Mr. Inlow, 57, has amblyopia in his left eye. His best-corrected visual acuity in the right eye is 20/20 and in the left, 20/400. Following an examination in 2003, his optometrist certified, “In my medical opinion, Mr. Inlow has sufficient vision to perform the driving tasks required to operate a commercial vehicle.” Mr. Inlow reported that he has driven straight trucks for 10 years, accumulating 650,000 miles. He holds a Class E driver's license from Missouri. His driving record for the last 3 years shows no accidents or convictions for moving violations in a CMV.

21. Christopher G. Jarvela

Mr. Jarvela, 35, has amblyopia in his left eye. His best-corrected visual acuity in the right eye is 20/25 and in the left, 20/200. His optometrist examined him in 2003 and stated, “It is my conclusion based on his visual acuity and his field of vision, that Mr. Jarvela has sufficient vision to perform the driving tasks required to operate a commercial vehicle.” Mr. Jarvela reported that he has driven tractor-trailer combinations for 10 years, accumulating 400,000 miles. He holds a Class CA CDL from Michigan. His driving record shows no accidents or convictions for moving violations in a CMV during the last 3 years.

22. Henry Joiner

Mr. Joiner, 53, has counting fingers vision in his left eye due to a congenital cataract. His best-corrected visual acuity in the right eye is 20/20. Following an examination in 2003, his ophthalmologist certified, “Mr. Joiner has sufficient vision to perform the driving tasks required to operate a commercial vehicle.” Mr. Joiner reported that he has driven straight trucks and tractor-trailer combinations for 20 years, accumulating 300,000 miles in the former, and 500,000 miles in the latter. He holds a Class A CDL from Mississippi. His driving record for the last 3 years shows no accidents or convictions for moving violations in a CMV.

23. Darrell D. Kropf

Mr. Kropf, 28, has amblyopia in his left eye. The visual acuity in his right eye is 20/15 and in the left, 20/400. His optometrist examined him in 2003 and certified, “In my opinion, Mr. Kropf is capable of driving commercial vehicles with the use of outside mirrors.” Mr. Kropf submitted that he has driven tractor-trailer combinations for 4 years, accumulating 300,000 miles. He holds a Class A CDL from Illinois. His driving record for the last 3 years shows no accidents and one conviction for a moving violation—“failure to obey stop sign”—in a CMV.

24. Brad L. Mathna

Mr. Mathna, 45, lost his left eye due to an injury that occurred in 1981. His visual acuity in the right eye is 20/15. Following an examination in 2002, his optometrist certified, “In my opinion, Mr. Mathna is able to operate a commercial vehicle at this time and has sufficient vision to perform the driving tasks required.” Mr. Mathna reported that he has driven tractor-trailer combinations for 27 years, accumulating 2.2 million miles. He holds a Class A CDL from Pennsylvania. His driving record for the last 3 years shows no accidents or convictions for moving violations in a CMV.

25. William G. McClam

Mr. McClam, 45, has had a history of injury to his left eye since 1971. His best-corrected visual acuity in the right eye is 20/20 and in the left, 20/200. Following an examination in 2003, his ophthalmologist certified, “It is my professional opinion Mr. McClam has sufficient vision to continue to perform the driving tasks required to operate a commercial vehicle.” Mr. McClam reported that he has driven tractor-trailer combinations for 24 years, accumulating 1.7 million miles. He holds a Class A CDL from South Carolina. His driving record for the last 3 years shows no accidents and one conviction for a moving violation—speeding—in a CMV. He exceeded the speed limit by 9 mph.

26. Vincent P. Miller

Mr. Miller, 42, is blind in his right eye due to an injury 17 years ago. His best-corrected visual acuity in the left eye is 20/20. His optometrist examined him in 2003 and certified, “In my professional opinion, Mr. Miller has sufficient vision to perform the driving tasks required to operate a commercial vehicle.” Mr. Miller reported that he has driven straight trucks for 7 years, accumulating 52,000 miles, and tractor-trailer combinations for 6 years, accumulating 135,000 miles. He holds a Class A CDL from California. His driving record shows no accidents or convictions for moving violations in a CMV during the last 3 years.

27. Warren J. Nyland

Mr. Nyland, 57, had a retinal detachment in his left eye at the age of 13. His best-corrected visual acuity in the right eye is 20/15 and in the left, light perception. Following an examination in 2002, his optometrist certified, “It is my medical opinion that Mr. Nyland has sufficient vision to perform the driving tasks required to operate a commercial vehicle.” Mr. Nyland submitted that he has driven straight trucks for 38 years, accumulating 570,000 miles, and tractor-trailer combinations for 15 years, accumulating 75,000 miles. He holds a Class A CDL from Michigan. His driving record shows no accidents or convictions for moving violations in a CMV during the last 3 years.

28. Dennis M. Prevas

Mr. Prevas, 46, had a stroke in his left eye in 1983. His visual acuity in the right eye is 20/16 and in the left, hand motions. Following an examination in 2002, his optometrist certified, “I feel Mr. Prevas has sufficient vision to perform the driving tasks required to operate a commercial vehicle.” Mr. Prevas reported that he has driven tractor-trailer combinations for 18 years, accumulating 630,000 miles. He holds a Class AM CDL from Iowa. His driving record for the last 3 years shows no accidents and one conviction for a moving violation—“following too closely”—in a CMV.

29. Terry B. Pritchett

Mr. Pritchett, 55, lost his right eye due to injury at age 11. His visual acuity in the left eye is 20/20 with correction. Following an examination in 2002, his optometrist certified, “In my medical opinion, Terry Pritchett has sufficient vision to perform all tasks necessary for a commercial driver.” Mr. Pritchett reported that he has driven straight trucks for 25 years, accumulating 650,000 miles. He holds a Class B CDL from Georgia. His driving record for the last 3 years shows no accidents or convictions for moving violations in a CMV.

30. Greg L. Riles

Mr. Riles, 52, has counting fingers vision in his right eye due to an injury in 1956. His best-corrected visual acuity in the left eye is 20/15. Following an examination in 2003, his optometrist certified, “At this time I would certify in my medical opinion that Mr. Riles has more than sufficient vision to perform the driving tasks required to operate a commercial vehicle in a safe manner.” Mr. Riles reported that he has driven straight trucks for 30 years, accumulating 36,000 miles, and tractor-trailer combinations for 6 years, accumulating 600,000 miles. He holds a Class A CDL from Iowa. His driving record for the last 3 years shows no accidents and one conviction for a moving violation—speeding—in a CMV. He exceeded the speed limit by 14 mph.

31. Dwayne L. Sandlin

Mr. Sandlin, 43, incurred a macular scar in his left eye due to histoplasmosis in 1996. His best-corrected visual acuity in the right eye is 20/20 and in the left, 20/200. Following an examination in 2002, his ophthalmologist certified, “In my medical opinion, he has sufficient vision to perform the driving tasks required to operate a commercial vehicle.” Mr. Sandlin reported that he has driven straight trucks for 15 years, accumulating 157,000 miles. He holds a Class B CDL from Florida. His driving record for the last 3 years shows no accidents or convictions for moving violations in a CMV.

32. Jon D. Schwengel

Mr. Schwengel, 60, has amblyopia in his left eye. His best-corrected visual acuity in the right eye is 20/20 and in the left, 20/100. Following an examination in 2003, his optometrist certified, “He is visually capable of handling driving tasks. I would trust him fully with any multiple axle vehicle.” Mr. Schwengel reported that he has driven tractor-trailer combinations for 10 years, accumulating 800,000 miles. He holds a Class A CDL from Illinois. His driving record for the last 3 years shows no accidents or convictions for moving violations in a CMV.

33. Steven R. Smith

Mr. Smith, 45, has had a serous maculopathy in his right eye since 1988. His best-corrected visual acuity in the right eye is counting fingers and in the left, 20/20. Following an examination in 2003, his ophthalmologist stated, “In my medical opinion, Mr. Smith has visual acuity sufficient to perform driving tasks required to operate a commercial vehicle.” Mr. Smith reported that he has driven straight trucks for 18 years, accumulating 198,000 miles, tractor-trailer combinations for 14 years, accumulating 1.5 million miles, and buses for 1 year, accumulating 57,000 miles. He holds a Class A CDL from Idaho. His driving record for the last 3 years shows no accidents or convictions for moving violations in a CMV.

34. Calvin D. Tomlinson

Mr. Tomlinson, 43, experienced a retinal detachment in his right eye in 1974. His best-corrected visual acuity in the right eye is 20/100 and in the left, 20/20. His optometrist examined him in 2003 and certified, “I believe Mr. Tomlinson would have sufficient vision to perform the driving tasks required to operate a commercial vehicle.” Mr. Tomlinson submitted that he has driven straight trucks for 14 years, accumulating 840,000 miles. He holds a Class A CDL from Kentucky. His driving record for the last 3 years shows no accidents and two convictions for speeding in a CMV. Mr. Tomlinson exceeded the speed limit by 17 mph in one instance and 11 mph in the other.

35. Mona J. van Krieken

Ms. van Krieken, 45, lost her right eye due to an accident 20 years ago. Her best-corrected visual acuity in the left eye is 20/20. An ophthalmologist examined her in 2002 and certified, “In my opinion, she has sufficient vision to perform driving tasks as required by an operator of a commercial vehicle.” Ms. van Krieken reported that she has driven straight trucks for 5 years, accumulating 32,000 miles, and tractor-trailer combinations for 11 years, accumulating 275,000 miles. She holds a Class A CDL from Oregon. Her driving record shows no accidents or convictions for moving violations in a CMV during the last 3 years.

36. Paul S. Yocum

Mr. Yocum, 38, has amblyopia in his left eye. His visual acuity in the right eye is 20/20 and in the left, 20/200. Following an examination in 2003, his ophthalmologist certified, “In my medical opinion, Mr. Yocum has sufficient vision to perform the driving tasks required to operate a commercial vehicle.” Mr. Yocum reported that he has driven straight trucks for 7 years, accumulating 56,000 miles. He holds a chauffeur's license from Indiana. His driving record for the last 3 years shows no accidents or convictions for moving violations in a CMV.

Request for Comments

In accordance with 49 U.S.C. 31315 and 31136(e), the FMCSA requests public comment from all interested persons on the exemption petitions described in this notice. We will consider all comments received before the close of business on the closing date indicated earlier in the notice.

Issued on: June 17, 2003.
Pamela M. Pelcovits,
Acting Associate Administrator, Policy and Program Development.

[FR Doc. 03-15696 Filed 6-20-03; 8:45 am]

BILLING CODE 4910-EX-P